DEPARTMENT OF THE INTERIOR

National Park Service

Chesapeake and Ohio Canal National Historical Park Advisory Commission; Notice of Public Meeting

AGENCY: Department of the Interior, National Park Service, Chesapeake and Ohio Canal National Historical Park.

ACTION: Notice of meeting.

SUMMARY: Notice is hereby given that a meeting of the Chesapeake and Ohio Canal National Historical Park Advisory Commission will be held at 9:30 a.m., on Friday, July 25, 2008, at the Chesapeake and Ohio Canal National Historical Park Headquarters, 1850 Dual Highway, Hagerstown, Maryland 21740.

DATES: Friday, July 25, 2008.

ADDRESSES: Chesapeake and Ohio Canal National Historical Park Headquarters, 1850 Dual Highway, Hagerstown, Maryland 21740.

FOR FURTHER INFORMATION CONTACT: Kevin Brandt, Superintendent, Chesapeake and Ohio Canal National Historical Park, 1850 Dual Highway, Suite 100, Hagerstown, Maryland 21740, telephone: (301) 714-2201.

SUPPLEMENTARY INFORMATION: The Commission was established by Public Law 91-664 to meet and consult with the Secretary of the Interior on general policies and specific matters related to the administration and development of the Chesapeake and Ohio Canal National Historical Park.

The members of the Commission are as follows:

Mrs. Sheila Rabb Weidenfeld, Chairperson

Mr. Charles J. Weir

Mr. Barry A. Passett

Mr. James G. McCleaf II

Mr. John A. Ziegler

Mrs. Mary E. Woodward

Mrs. Donna Printz

Mrs. Ferial S. Bishop

Ms. Nancy C. Long

Mrs. Jo Reynolds

Dr. James H. Gilford

Brother James Kirkpatrick

Dr. George E. Lewis, Jr.

Mr. Charles D. McElrath

Ms. Patricia Schooley

Mr. Jack Reeder

Ms. Merrily Pierce

Topics that will be presented during the meeting include:

1. Update on park operations.

2. Update on major construction/development projects.

3. Update on partnership projects.

The meeting will be open to the public. Any member of the public may file with the Commission a written statement concerning the matters to be discussed. Persons wishing further information concerning this meeting, or who wish to submit written statements, may contact Kevin Brandt, Superintendent, Chesapeake and Ohio Canal National Historical Park. Minutes of the meeting will be available for public inspection six weeks after the meeting at Chesapeake and Ohio Canal National Historical Park Headquarters, 1850 Dual Highway, Suite 100, Hagerstown, Maryland 21740.

Dated: April 23, 2008.
Kevin D. Brandt,
Superintendent, Chesapeake and Ohio Canal, National Historical Park.

[FR Doc. E8-10989 Filed 5-15-08; 8:45 am]

BILLING CODE 4310-6V-P